DEPARTMENT OF THE INTERIOR

National Park Service

Notice of Inventory Completion: Northwest Museum, Whitman College, Walla Walla, WA

AGENCY: National Park Service, Interior.

ACTION: Notice.

Notice is here given in accordance with the Native American Graves Protection and Repatriation Act (NAGPRA), 25 U.S.C. 3003, of the completion of an inventory of human remains and associated funerary objects in the possession of Northwest Museum, Whitman College, Walla Walla, WA. The human remains and associated funerary objects were removed from Umatilla County, OR, and Benton and Walla Walla Counties, WA.

This notice is published as part of the National Park Service's administrative responsibilities under NAGPRA, 25 U.S.C. 3003 (d)(3). The determinations in this notice are the sole responsibility of the museum, institution or Federal agency that has control of the Native American human remains and associated funerary objects. The National Park Service is not responsible for the determinations in this notice.

A detailed assessment of the human remains and associated funerary objects was made by Northwest Museum, Whitman College professional staff in consultation with representatives of the Confederated Tribes of the Umatilla Indian Reservation, Oregon.

In 1929, human remains representing a minimum of one individual were removed from near the junction of the north and south forks of the Walla Walla River, Umatilla County, OR, by Mr. Demaris and donated to the Northwest Museum, formerly Maxey Museum, on March 31, 1929 (Accn. #5563, Cat. #WHIT-X-0014). No known individual was identified. No associated funerary objects are present.

A village and fishing site of the Long-hair Band of the Weyiiletpuu was located at Nushnu-pa, at this location on the Walla Walla River. Today, the Weyiiletpuu, or Cayuse Tribe, are a part of the Confederated Tribes of the Umatilla Indian Reservation, Oregon. The Cayuse traditionally lived within the Walla Walla-Milton-Freewater area and the drainages of the Walla Walla River, which is within the ceded lands of the Confederated Tribes of the Umatilla Indian Reservation, Oregon.

In 1949, human remains representing a minimum of three individuals were removed from Plymouth, Site #21, “150 yards north of the ferry landing,” Benton County, WA, by Dr. Melvin C. Jacobs and accessioned by the museum (Accn. #A26, Cat. #WHIT-H-004). No known individuals were identified. The 22 associated funerary objects are 1 lot of rusted nails, 1 lot of metal fragments, 1 lot of spikes and spoons, 11 stone tools, 1 stone, 1 stone object, 3 adzes, 1 brass kerosene lamp wick holder, 1 canoe weight, and 1 pestle. (Cat. #WHIT-H-1 to 3, 6, 8 to 12, 14 to 19, and 21 to 26)

The human remains were found within the confines of an abandoned Hudson Bay trading site. It was determined by Dr. Jacobs that the human remains had been interred after the trading post had been abandoned. Based on earlier excavations at the site, the human remains are determined to be Native American. The Imatalamlama, or Umatilla Tribe, now a part of the Confederated Tribes of the Umatilla Indian Reservation, Oregon, had a permanent camp and fishing site called So-luc-a across the Columbia River from Umatilla, OR, on the Washington shoreline, near present-day Plymouth, WA. This area is within the ceded lands of the Confederated Tribes of the Umatilla Indian Reservation, Oregon.

In 1950, human remains representing a minimum of one individual were removed from site 45BN15 or Site #18, Rabbit Island, Benton County, WA, by Thomas R. Garth, Jr., and accessioned into the museum (Accn. #J500 and #2356, Cat. #Whit-J-0014). No known individual was identified. The one associated funerary object is one lot of red ochre.

Rabbit Island was on the Homly Channel of the Columbia River and was an important burial site and habitation area for the Waluulapam, who are members of the Confederated Tribes of the Umatilla Indian Reservation, Oregon. The site is also near two important salmon and eel fishing sites known as Tomist-pa and Khus-us-ienim-tala-wit.

In 1950, human remains representing a minimum of eight individuals were removed from site 45BN55, Sheep Island, Site #17, Benton County, WA, by Thomas R. Garth, Jr. and accessioned into the museum (Cat #Whit-J-028, 034, 057, 060, 063-072, 107-108). No known individuals were identified. The 63 associated funerary objects are 46 light red beads, 11 pestle fragments, 2 flint scrapers, 1 rock with ochre, 1 mud-dauber's nest, 1 sandstone smoother, and 1 bag of charcoal. (Cat. # WHIT-J-2, 3, 5, 18, 19, 23 to 25, and 133)

Sheep Island was an important burial island for the Imatalamlam and is within the ceded lands of the Confederated Tribes of the Umatilla Indian Reservation, Oregon.

In 1952, human remains representing a minimum of one individual were excavated during construction at the Green Park Elementary School Ground in Walla Walla, Walla Walla County, WA, and accessioned into the museum (Cat. #WHIT-X-013). No known individual was identified. No associated funerary objects are present.

The land occupied by the city of Walla Walla was used by the Weyiiletpuu and the Waluulapam as a wintering ground, hunting, fishing, and food gathering area. Oral histories from representatives of the Confederated Tribes of the Umatilla Indian Reservation, Oregon place their direct ancestors' camping area in the vicinity of the Green Park Elementary School Ground. The Walla Walla area is within the ceded lands of the Confederated Tribes of the Umatilla Indian Reservation, Oregon.

In 1962, human remains representing a minimum of three individuals were removed from the Stanley Tucker farm near Milton-Freewater, Umatilla County, OR, and accessioned into the museum (Accn. #Whit-26, Cat. #Whit-X-16). No known individuals were identified. The three associated funerary objects are one stone and two shell fragments. (Cat. #WHIT-X-52 to 54)

The Milton-Freewater area was a wintering area, and food and resource gathering area for the Waluulapam and Weyiiletpuu. The site is also within the ceded lands of the Confederated Tribes of the Umatilla Indian Reservation, Oregon.

At an unknown date, human remains representing a minimum of one individual were removed from most likely the Walla Walla area, WA. The human remains were accessioned into the museum at an unknown date (Accn. #11066, Cat. #WHIT-X-012). No known individual was identified. No associated funerary objects are present.

During the NAGPRA inventory this individual human remain was found in the collection with a note stating that it was “Found in Walla Walla area.” This individual is determined to be Native American by the significant tooth wear and other identifying characteristics. The Walla Walla area is a traditional use area for the Waluulapam and Weyiiletpuu, and within the ceded lands of the Confederated Tribes of the Umatilla Indian Reservation, Oregon.

The determination of cultural affiliation of the human remains and associated funerary objects has been based upon geographic, archeological, historical, ethnological, and linguistic evidence, as well as the oral tradition and kinship traditions of the Confederated Tribes of the Umatilla Indian Reservation, Oregon. Primary information sources are museum accession and catalog records, preliminary excavation records, several articles about the Columbia Island McNary Dam excavations, consultation with various anthropologists, and consultation with tribal representatives of the Confederated Tribes of the Umatilla Indian Reservation, Oregon.

Officials of the Northwest Museum, Whitman College have determined that, pursuant to 25 U.S.C. 3001 (9-10), the human remains described above represent the physical remains of a minimum of 18 individuals of Native American ancestry. Officials of the Northwest Museum, Whitman College also have determined that, pursuant to 25 U.S.C. 3001 (3)(A), the 89 objects described above are reasonably believed to have been placed with or near individual human remains at the time of death or later as part of the death rite or ceremony. Lastly, officials of the Northwest Museum, Whitman College have determined that, pursuant to 25 U.S.C. 3001 (2), there is a relationship of shared group identity that can be reasonably traced between the Native American human remains and associated funerary objects and the Confederated Tribes of the Umatilla Indian Reservation, Oregon.

Representatives of any other Indian tribe that believes itself to be culturally affiliated with the human remains and associated funerary objects should contact Dr. Nina Lerman, Northwest Museum, Whitman College, 345 Boyer Ave, Walla Walla, WA 99362, telephone (509) 527- 5798, before September 12, 2008. Repatriation of the human remains and associated funerary objects to the Confederated Tribes of the Umatilla Indian Reservation, Oregon may proceed after that date if no additional claimants come forward.

Northwest Museum is responsible for notifying the Confederated Tribes of the Umatilla Indian Reservation, Oregon that this notice has been published.

Dated: June 23, 2008
Sherry Hutt,
Manager, National NAGPRA Program.

[FR Doc. E8-18692 Filed 8-12-08; 8:45 am]

BILLING CODE 4312-50-S